DEPARTMENT OF THE INTERIOR

Bureau of Land Management

[LLWY-920000-L143000000-ET0000; WYW 109115]

Notice of Proposed Withdrawal Extension and Opportunity for Public Meeting; WY

AGENCY: Bureau of Land Management, Interior.

ACTION: Notice.

SUMMARY: The Assistant Secretary of the Interior—Land and Minerals Management proposes to extend the duration of Public Land Order (PLO) No. 6797 for an additional 20-year term. PLO No. 6797 withdrew 9,609.74 acres of public mineral estate from location or entry under the United States mining laws (30 U.S.C. Ch.2), to protect the Whiskey Mountain Bighorn Sheep Winter Range in Fremont County. This notice also gives an opportunity to comment on the proposed action and to request a public meeting.

DATES: Comments and requests for a public meeting must be received by April 8, 2010.

ADDRESSES: Comments and meeting requests should be sent to the BLM Wyoming State Director, P.O. Box 1828, Cheyenne, Wyoming 82003-1828.

FOR FURTHER INFORMATION CONTACT: Janelle Wrigley, BLM Wyoming State Office, 307-775-6257, or at the above address.

SUPPLEMENTARY INFORMATION: The withdrawal created by PLO No. 6797 (55 FR 37878 (1990)) will expire September 13, 2010, unless extended. PLO No. 6797 is incorporated herein by reference. The BLM has filed a petition/application to extend PLO No. 6797 for an additional 20-year term. The withdrawal was made to protect the bighorn sheep winter range and capital investments on the land described in the PLO at 55 FR 37878 (1990). The area aggregates 9,609.74 acres in Fremont County, Wyoming.

The purpose of the proposed extension is to continue the withdrawal created by PLO No. 6797 for an additional 20-year term to protect the Whiskey Mountain Bighorn Sheep Winter Range and capital investments in the area.

The use of a right-of-way, interagency, or cooperative agreement would not adequately constrain nondiscretionary uses which could result in the permanent loss of significant values and irreplaceable resources of the range.

There are no suitable alternative sites since the lands described herein contain the area that has historically been used as bighorn sheep winter range, due to its physical characteristics, and because of the local weather conditions.

No water rights would be needed to fulfill the purpose of the requested withdrawal extension.

Records relating to the application may be examined by contacting Janelle Wrigley at the above address or by phone at 307-775-6257 or by contacting the BLM Field Manager, Lander Field Office, 1335 Main Street, Lander, Wyoming 82520 or by phone at 307-332-8400.

For a period of 90 days from the date of publication of this notice, all persons who wish to submit comments, suggestions, or objections in connection with the proposed extension may present their views in writing to the BLM Wyoming State Director at the address noted above. Comments, including names and street addresses of respondents, will be available for public review at the BLM Lander Field Office, 1335 Main Street, Lander, Wyoming, during regular business hours 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Notice is hereby given that one or more public meetings will be held in connection with the proposed withdrawal extension. All interested persons who desire a public meeting for the purpose of being heard on the proposed extension must submit a written request to the BLM Wyoming State Director within 90 days from the date of publication of this notice. A notice of the time and place of any public meetings will be published in the Federal Register and at least one local newspaper at least 30 days before the scheduled date of the meeting.

This withdrawal extension petition/application will be processed in accordance with the regulations set forth in 43 CFR 2310.4.

(Authority: 43 CFR 2310.3-1)

Michael Madrid,
Chief, Branch of Fluid Mineral Operations, Lands and Appraisal.

[FR Doc. 2010-93 Filed 1-7-10; 8:45 am]

BILLING CODE 4310-22-P